OFFICE OF THE FEDERAL REGISTER

1 CFR Part 51

[Docket Number: OFR-2013-0001]

RIN 3095-AB78

Incorporation by Reference

AGENCY: Office of the Federal Register, National Archives and Records Administration.

ACTION: Extension of comment period; correction.

SUMMARY: On October 2, 2013, the Office of the Federal Register published a proposal to amend our regulations governing the approval of agency requests to incorporate material by reference into the Code of Federal Regulations. Given the recent government shutdown and technical issues with Regulations.gov, we are extending the comment period. We are also correcting the docket number and adding a link to the docket.

DATES: Comments must be received on or before January 31, 2013.

ADDRESSES: You may submit comments, identified using the subject line of this document, by any of the following methods:

• Federal eRulemaking Portal: http://www.regulations.gov/#!docketDetail;D=OFR-2013-0001. Follow the instructions for submitting comments.

• Email: Fedreg.legal@nara.gov. Include the subject line of this document in the subject line of the message.

• Mail: the Office of the Federal Register (NF), The National Archives and Records Administration, 8601 Adelphi Road, College Park, MD.

• Hand Delivery/Courier: Office of the Federal Register, 800 North Capitol Street NW., Suite 700, Washington, DC 20001.

Docket materials are available at the Office of the Federal Register, 800 North Capitol Street NW., Suite 700, Washington, DC 20001, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Amy Bunk, Director of Legal Affairs and Policy, or Miriam Vincent, Staff Attorney, Office of the Federal Register, at Fedreg.legal@nara.gov, or 202-741-6030.

SUPPLEMENTARY INFORMATION: On October 2, 2013, the Office of the Federal Register published a proposal to amend our regulations governing the approval of agency requests to incorporate material by reference into the Code of Federal Regulations (77 FR 11414 (February 27, 2012)). Given the recent government shutdown and technical issues with Regulations.gov, we are extending the comment period. We are also correcting the docket number and adding a link to the docket.

Correction

In proposed rule FR Doc. 2013-24217, beginning on page 60784 in the issue of October 2, 2013, make the following corrections:

a. in the Document Heading on page 60784 in the first column between the brackets, remove and replace the docket number as follows:

“Docket Number: OFR-2013-0001”

b. in the ADDRESSES section on page 60784 in the first column, remove and replace the first bullet as follows:

“Federal eRulemaking Portal: http://www.regulations.gov/#!docketDetail;D=OFR-2013-0001. Follow the instructions for submitting comments.”

Dated: November 13, 2013.
Charles A. Barth,
Director, Office of the Federal Register.

[FR Doc. 2013-27541 Filed 11-14-13; 11:15 am]

BILLING CODE 1505-02-P